DEPARTMENT OF AGRICULTURE

Forest Service

Del Norte County Resource Advisory Committee (RAC)

AGENCY: Forest Service, USDA.

ACTION: Notice of meeting.

SUMMARY: The Del Norte County Resource Advisory Committee (RAC) will meet on December 17, 2001 in Crescent City, California. The purpose of the meeting is to discuss the selection of Title II projects under Public Law 106-393, H.R. 2389, the Secure Rural Schools and Community Self-Determination Act of 2000, also called the “Payments to States” Act.

DATES: The meeting will be held on December 17, 2001 from 6:30 to 8:30 p.m.

ADDRESSES: The meeting will be held at the Elk Valley Rancheria Community Center, 2298 Norris Avenue, Suite B, Crescent City, California.

FOR FURTHER INFORMATION CONTACT: Laura Chapman, Committee Coordinator, USDA, Six Rivers National Forest, 1330 Bayshore Way, Eureka, CA 95501. Phone: (707) 441-3549. Email: lchapman@fs.fed.us.

SUPPLEMENTARY INFORMATION: This will be the first meeting of the committee, and will focus on orienting the committee members to the Payments to States Act, and the Federal Advisory Committee Act (FACA), and the process for selecting Title II projects. The meeting is open to the public. Public input opportunity will be provided and individuals will have the opportunity to address the committee at that time.

Dated: November 1, 2001.
S.E. ‘Lou’ Woltering,
Forest Supervisor.

[FR Doc. 01-28137 Filed 11-8-01; 8:45 am]

BILLING CODE 3410-11-M